NUCLEAR REGULATORY COMMISSION

[EA-04-225]

In the Matter of AVI Food Systems, Inc.; Confirmatory Order (Effective Immediately)

I

AVI Food Systems, Inc. (AVI) is an independently owned and operated food service company serving various industries in the Midwest and Eastern United States including the Davis-Besse plant which is regulated by the U.S. Nuclear Regulatory Commission (NRC or Commission). AVI headquarters is located in Warren, OH.

II

On February 9, 2004, and July 8, 2004, the NRC's Office of Investigations (OI) began investigations to determine if former AVI employees at the Davis-Besse facility were the subject of employment discrimination in violation of 10 CFR 50.7. In OI Report Nos. 3-2004-006 and 3-2004-018, OI concluded that AVI employees were the subject of discrimination. By letter dated February 25, 2005, the NRC identified to FirstEnergy Nuclear Operating Company (FENOC) the NRC's concern and offered FENOC and AVI the opportunity to attend a predecisional enforcement conference or to request alternative dispute resolution (ADR) in which a neutral mediator with no decision-making authority would facilitate discussions between the NRC, FENOC and AVI, and if possible, assist the NRC and the parties in reaching an agreement on resolving the concerns. FENOC and AVI chose to participate in ADR. On May 11, 2005, the NRC and AVI met at the Davis-Besse facility in Oak Harbor, Ohio in an ADR session mediated by a professional mediator, arranged through Cornell University's Institute on Conflict Resolution. As part of the ADR session, based upon the facts discussed during the mediation session and the commitments noted in Section IV below, the NRC will not issue a Notice of Violation to AVI for this issue.

III

By letter dated June 9, 2005, AVI committed to include in its policy/programs, information necessary to ensure that its future activities with NRC licensees will incorporate training for its employees involved with the NRC licensees regarding safety conscious work environment (SCWE) and safety culture. The training program will have the objective of reinforcing the importance of maintaining a SCWE and of assisting managers and supervisors in responding to employees who raise safety concerns in the workplace. AVI also agreed to include in such training the requirements of 10 CFR 50.7, “Employee protection.”

On July 6, 2005, AVI consented to the NRC issuing this Confirmatory Order with the commitments, as described in Section IV below. AVI further agreed in its July 6, 2005, letter that this Order is to be effective upon issuance and that it has waived its right to a hearing.

The NRC has concluded that its concerns can be resolved through effective implementation of AVI's commitments. I find that AVI's commitments as set forth in Section IV are acceptable and necessary and conclude that with these commitments the public health and safety are reasonably assured. In view of the foregoing, I have determined that the public health and safety require that AVI's commitments be confirmed by this Order. Accordingly, the staff is exercising its enforcement discretion and will not issue a Notice of Violation in this case. Based on the above and AVI's consent, this Order is immediately effective upon issuance. AVI is required to provide the NRC with a letter summarizing its actions when all of the Section IV requirements have been completed.

IV

Accordingly, pursuant to Sections 103, 161b, 161i, 161o, 182, and 186 of the Atomic Energy Act of 1954, as amended, and the Commission's regulations in 10 CFR 2.202 and 10 CFR part 30, It is hereby ordered, effective immediately, that:

By no later than six months from the issuance of this Order, AVI will include in its policy/programs, information necessary to ensure that its future activities with NRC licensees will incorporate training, initial and recurring, for its employees involved with the NRC licensees regarding SCWE and safety culture. AVI also agreed to include in such training the requirements of 10 CFR 50.7, “Employee protection.”

The Director, Office of Enforcement, may relax or rescind, in writing, any of the above conditions upon a showing by AVI of good cause.

V

Any person adversely affected by this Confirmatory Order, other than AVI, may request a hearing within 20 days of its issuance. Where good cause is shown, consideration will be given to extending the time to request a hearing. A request for extension of time must be made in writing to the Director, Office of Enforcement, U.S. Nuclear Regulatory Commission, Washington, DC 20555, and include a statement of good cause for the extension. Any request for a hearing shall be submitted to the Secretary, U.S. Nuclear Regulatory Commission, ATTN: Rulemakings and Adjudications Staff, Washington, DC 20555. Copies also shall be sent to the Director, Office of Enforcement, U.S. Nuclear Regulatory Commission, Washington, DC 20555, to the Assistant General Counsel for Materials Litigation and Enforcement at the same address, to the Regional Administrator, NRC Region III, 2443 Warrenville Road, Suite 210, Lisle, IL 60532-4352, and to the Licensee. Because of continuing disruptions in delivery of mail to United States Government Offices, it is requested that requests for hearing be transmitted to the Secretary of the Commission either by means of facsimile transmission to (301) 415-1101 or by e-mail to hearingdocket@nrc.gov and also to the Office of the General Counsel either by means of facsimile transmission to (301) 415-3725 or by e-mail to OGCMailCenter@nrc.gov. If a person requests a hearing, that person shall set forth with particularity the manner in which his interest is adversely affected by this Order and shall address the criteria set forth in 10 CFR 2.309(d) and (f).

If a hearing is requested by a person whose interest is adversely affected, the Commission will issue an Order designating the time and place of any hearing. If a hearing is held, the issue to be considered at such hearing shall be whether this Confirmatory Order should be sustained.

A request for hearing shall not stay the immediate effectiveness of this order.

For the Nuclear Regulatory Commission.
Dated this 15th day of July, 2005.
Michael R. Johnson,
Director, Office of Enforcement.

[FR Doc. E5-3967 Filed 7-25-05; 8:45 am]

BILLING CODE 7590-01-P